ENVIRONMENTAL PROTECTION AGENCY

[FRL-7902-6]

Opportunity for Organizations That Have Expertise in Sustainable Development and Sustainable Facilities To Cooperate With a New Initiative in EPA's Office of Site Remediation Enforcement

AGENCY: Environmental Protection Agency (EPA).

ACTION: Notice; announcement of initiative and request for statements of interest.

SUMMARY: The Environmental Protection Agency, Office of Site Remediation Enforcement (OSRE) within the Office of Enforcement and Compliance Assurance (OECA) is interested in cooperating with organizations with expertise in sustainable development and sustainable facilities (e.g., non-profit organizations, universities, trade associations, organizations that practice sustainable development, etc.) in connection with its Environmentally Responsible Redevelopment and Reuse (ER3) initiative. Please note that EPA will not compensate cooperating organizations for their efforts in connection with this initiative.

DATES: Statements of interest are due by 5 p.m. e.s.t. on June 21, 2005.

ADDRESSES: Please mail applications to Phil Page, Environmental Protection Agency, Office of Site Remediation Enforcement, Ariel Rios Building, 1200 Pennsylvania Ave. NW., M/C 2273A, Washington, DC 20460. In the alternative, you may e-mail applications to page.phil@epa.gov.

FOR FURTHER INFORMATION CONTACT: Phil Page, (202) 564-4211, or Erin Smith, (202) 564-2038, or go to http://www.epa.gov/compliance/cleanup/redevelop/er3.

SUPPLEMENTARY INFORMATION: ER3, a new initiative sponsored by OECA, has several components, one of which is developing working relationships with one or more interested organizations that have expertise in sustainable development.

The purpose of ER3 is to encourage the reuse and redevelopment of contaminated and previously-contaminated property in an environmentally responsible manner, incorporating concepts such as green building design, construction and operation; ecological and greenspace enhancement; energy efficiency; the use of renewable energy sources; environmental management systems; storm water and wastewater management; pollution prevention; waste minimization and recycling; and healthy buildings. As part of the ER3 initiative, OSRE is willing to provide incentives, where necessary, to entities that plan to redevelop contaminated or formerly-contaminated property (e.g., communities, developers, or other organizations) to encourage these entities to incorporate sustainability concepts into their projects.

To assist redevelopers with the logistics of integrating environmentally-superior redevelopment and reuse concepts into particular projects, OSRE is forming, in part through this notice, a network of governmental and non-governmental partners. The ER3 network partners will serve as a source of general information to redevelopers (for example, through information on a Web site). Further, an ER3 network partner may provide services on a particular project for compensation if the redeveloper and ER3 network partner enter into a separate working agreement. EPA will not be a party to these agreements.

Through this initiative, OSRE hopes to identify organizations with expertise consistent with the sustainable development concepts noted above, and collaborate with the selected organizations to establish one part of the ER3 network. Once OSRE has identified a variety of organizations, it will enter into a non-financial cooperation agreement with each organization that acknowledges both the organization's expertise in sustainability concepts and the working relationship between the organization and OSRE. The agreements will recognize expertise that may be valuable to reuse and redevelopment efforts in connection with the ER3 initiative. The agreements will not provide an endorsement of any particular ER3 partner's products and services, nor are they a vehicle for these entities to receive compensation of any type from the Agency. However, nothing in this process prohibits selected EPA partners from entering into private agreements for compensation with those entities engaged in the reuse or redevelopment process. Further, EPA may enter into separate financial transactions with cooperative partners to the extent consistent with applicable procurement and financial assistance regulations and policies governing competition. OSRE may, with the permission of the selected organizations, post links to the organizations' Web sites on EPA's ER3 Web page to provide additional information and resources to entities that visit the ER3 site.

Organizations that wish to participate in this initiative must send a statement of interest to the address listed below. The statement of interest must include: (1) A statement that identifies (a) the areas of expertise of the organization with respect to the concepts discussed above (green building design, construction and operation; ecological and greenspace enhancement; energy efficiency; the use of renewable energy sources; environmental management systems; storm water and wastewater management; pollution prevention; waste minimization and recycling; and healthy buildings); (b) the manner in which the organization can assist entities with incorporating sustainability concepts into the redevelopment and reuse of contaminated or formerly-contaminated property; and (c) examples of relevant projects in which the organization has participated, along with the organization's role in the projects; (2) applicable brochures or similar information for the organization; and (3) contact information. OSRE will make its selections based upon the extent to which an organization can effectively cooperate with OSRE and private entities in many areas of sustainable development and sustainable facilities, geographic location, and experience with respect to contaminated properties and brownfield sites.

Dated: April 18, 2005.
Susan E. Bromm,
Director, Office of Site Remediation Enforcement.

[FR Doc. 05-8126 Filed 4-21-05; 8:45 am]

BILLING CODE 6560-50-P